DEPARTMENT OF EDUCATION

Office of Special Education and Rehabilitative Services; List of Correspondence

AGENCY: Department of Education.

ACTION: List of correspondence from January 2, 2001 through March 31, 2001.

SUMMARY: The Secretary is publishing the following list pursuant to section 607(d) of the Individuals with Disabilities Education Act (IDEA). Under section 607(d) of IDEA, the Secretary is required, on a quarterly basis, to publish in the Federal Register a list of correspondence from the Department of Education received by individuals during the previous quarter that describes the interpretations of the Department of Education of IDEA or the regulations that implement IDEA.

FOR FURTHER INFORMATION CONTACT: Melisande Lee or JoLeta Reynolds. Telephone: (202) 205-5507. If you use a telecommunications device for the deaf (TDD) you may call (202) 205-5465 or the Federal Information Relay Service (FIRS) at 1-800-877-8339.

Individuals with disabilities may obtain a copy of this notice in an alternative format (e.g., Braille, large print, audiotape, or computer diskette) on request to Katie Mincey, Director of the Alternate Formats Center. Telephone: (202) 205-8113.

SUPPLEMENTARY INFORMATION: The following list identifies correspondence from the Department issued between January 2, 2001 through March 31, 2001.

Included on the list are those letters that contain interpretations of the requirements of IDEA and its implementing regulations, as well as letters and other documents that the Department believes will assist the public in understanding the requirements of the law and its regulations. The date and topic addressed by a letter are identified, and summary information is also provided, as appropriate. To protect the privacy interests of the individual or individuals involved, personally identifiable information has been deleted, as appropriate.

Part B—Assistance for Education of All Children With Disabilities

Section 611—Authorization; Allotment; Use of Funds; Authorization of Appropriations

Topic Addressed: Use of Funds

• Letter dated March 13, 2001 to Maine Commissioner of Education, J. Duke Albanese, regarding whether a unit that functions as a separate legal entity from the Maine Department of Education (MDE) should be included in MDE's Annual Single Audit.

• Letter dated February 13, 2001 to Alaska Commissioner of Education, Richard S. Cross, regarding a finding in a Federal Fiscal Year (FFY) 1996 audit report questioning the personal service expenditures allocated to the Special Education-Grants to States Federal program.

Section 612—State Eligibility

Topic Addressed: Free Appropriate Public Education

• Letter dated January 19, 2001 (personally identifiable information redacted), regarding the obligation of States and local school districts to provide a free appropriate public education (FAPE) and opportunities for parent participation in a child's evaluation, eligibility, and educational placement.

• Letter dated March 1, 2001 (personally identifiable information redacted), regarding the extension of compensatory education services beyond age 21 awarded in settlement of litigation, the complaint mechanisms available under the IDEA, and the roles of Federal and State agencies that provide educational services.

• Letter dated March 30, 2001 to School Board Attorney John W. Bowen, regarding application of the requirements of the IDEA and of section 504 of the Rehabilitation Act of 1973 to Florida's Opportunity Scholarship Program legislation.

Topic Addressed: Child Find

• Letter dated March 30, 2001 to Colorado Department of Education Special Education Director, Dr. Lorrie Harkness, regarding (1) the responsibility to identify and evaluate children with Attention Deficit Disorder/Attention Deficit Hyperactivity Disorder and (2) the definition of “educational records.”

Topic Addressed: Procedural Safeguards

• Letter dated March 30, 2001 (personally identifiable information redacted), clarifying that a State may hold in abeyance those issues in a complaint that are currently being appealed in a judicial proceeding.

Topic Addressed: State Educational Agency General Supervisory Authority

• Letter dated March 19, 2001 to California Assistant Superintendent of Public Instruction, Alice Parker, regarding a State's obligation to monitor the compliance of local educational agencies (LEAs), and to take action in response to noncompliance.

• Letter dated March 30, 2001 to Pennsylvania Bureau of Special Education Director, Dr. Fran Warkomski, regarding a State's responsibility to resolve complaints in a way that provides individual relief and addresses systemic problems.

Topic Addressed: Participation in Assessments

• Letter dated January 19, 2001, (personally identifiable information redacted), regarding the use of a calculator as an accommodation or individual modification for the participation of students with disabilities in State and district-wide assessments.

• OSEP memorandum 01-06 dated January 17, 2001 providing guidance selected for its relevance to parents and families of students with disabilities about the participation of these students in State and district-wide assessments.

• Memorandum dated January 12, 2001 regarding the role and authority of the Individualized Education Program (IEP) team in the participation of children with disabilities in State and district-wide assessments of student achievement for children with disabilities.

Section 613—Local Educational Agency Eligibility

Topic Addressed: Schoolwide Programs

• Letter dated January 12, 2001, regarding the inclusion of students with disabilities in schoolwide reform efforts, and advising LEAs that a portion of IDEA Part B funds can be combined with funds from Title I of the Elementary and Secondary Education Act of 1965 and with other Federal, State and local funds to carry out schoolwide programs that include children with disabilities, as long as students with disabilities receive services in accordance with a properly developed IEP and are afforded all of the rights and services guaranteed to children with disabilities under IDEA.

Part C—Infants and Toddlers with Disabilities

Sections 631-641

Topic Addressed: Federal Interagency Coordinating Council

• Letter dated January 2, 2001 regarding principles of family involvement and suggested standards of practice developed by the Federal Interagency Coordinating Council (FICC) to encourage meaningful involvement of family members at all levels of policy and service delivery planning.

• Letter dated January 17, 2001 to TRICARE Management Activity Executive Director, H. James T. Sears, regarding the FICC's development of a service guide, TRICARE and IDEA Part C: A Guide to Services, that addresses the interface between TRICARE, the Department of Defense's military health system, and Part C of IDEA.

Other Letters Relevant To the Administration of IDEA Programs

Topic Addressed: Freedom of Information Act

• Letter dated March 27, 2001 to individual, (personally identifiable information redacted), regarding factors that are considered in determining whether fees can be waived under the Freedom of Information Act (FOIA).

Miscellaneous

Topic Addressed: Multiple Chemical Sensitivity

• Letter dated January 8, 2001 transmitting information to school personnel, parents, and other interested individuals regarding Multiple Chemical Sensitivity (MCS).

Electronic Access to This Document

You may view this document, as well as all other Department of Education documents published in the Federal Register, in text or Adobe Portable Document Format (PDF) on the Internet at the following site: http://www.ed.gov/legislation/FedRegister/

To use PDF you must have Adobe Acrobat Reader, which is available free at this site. If you have questions about using PDF, call the U.S. Government Printing Office (GPO), toll free, at 1-800-293-6498; or in the Washington, DC, area at (202) 512-1530.

Note: The official version of this document is published in the Federal Register. Free Internet access to the official edition of the Federal Register and the Code of Federal Regulations is available on GPO Access at: http://www.access.gpo.gov/nara/index.html

(Catalog of Federal Domestic Assistance Number 84.027, Assistance to States for Education of Children with Disabilities)
Dated: June 6, 2001.
Francis V. Corrigan,
Deputy Director, National Institute on Disability and Rehabilitation Research.

[FR Doc. 01-14676 Filed 6-11-01; 8:45 am]

BILLING CODE 4000-01-U